DEPARTMENT OF TRANSPORTATION

Federal Aviation Administration

Cancellation of Environmental Impact Statement for the Oklahoma Launch Site Operator License for the Clinton-Sherman Industrial Airpark (CSIA)

AGENCY: Federal Aviation Administration (FAA), Department of Transportation.

SUMMARY: On October 23, 2002, the FAA published a Notice of Intent to prepare an environmental impact statement (EIS) for the Oklahoma Space Industry Development Authority's (OSIDA's) proposal to operate a commercial launch site at the Clinton-Sherman Industrial Airpark (CSIA) in the Federal Register (67 FR 65169). The original proposed action included horizontal and vertical launches, significant construction activities, orbital launches, and vehicle manufacturing. The nature of these activities necessitated that the proposed action be addressed through the preparation of an EIS.

Subsequent changes to the proposed action have eliminated the need for vertical launch, construction of any kind, orbital launches, and vehicle manufacturing. The proposed action as currently stated involves the horizontal launch of suborbital Reusable Launch Vehicles from an existing runway at the CSIA. The horizontal launch activities are similar to the current Air Force activities at the CSIA and are not expected to produce significant impacts, indicating that an EA would be the most appropriate NEPA analysis for OSIDA's proposed activities.

Scoping meetings were held in Oklahoma in November 2002. Because the proposed action is a subset of the information originally presented during scoping, we do not propose to re-initiate scoping meetings. For the reasons stated above, the FAA is canceling the EIS and will prepare an Environmental Assessment to analyze the impacts of the proposed action.

FOR FURTHER INFORMATION CONTACT: Questions may be directed to Doug Graham, FAA Environmental Specialist, c/o ICF Consulting, 9300 Lee Highway, Fairfax, VA 22031 or (202) 267-8568.

Date Issued: September 30, 2005.
Herbert Bachner,
Manager, Space Systems Development Division.

[FR Doc. 05-20180 Filed 10-6-05; 8:45 am]

BILLING CODE 4910-13-P